DEPARTMENT OF TRANSPORTATION

Federal Transit Administration

Public Transportation on Indian Reservations Program; Tribal Transit Program

AGENCY: Federal Transit Administration (FTA), DOT.

ACTION: Notice of Funding Availability: Solicitation of Grant Proposals for FY 2011 Tribal Transit Program Funds.

SUMMARY: This notice announces the availability of $15,075,000 in funding provided by the Public Transportation on Indian Reservations Program (Tribal Transit Program (TTP)), a program authorized by the Safe, Accountable, Flexible, Efficient Transportation Equity Act: A Legacy for Users (SAFETEA-LU), Section 3013(c). This notice is a national solicitation for grant proposals and it includes the selection criteria and program eligibility information for FY 2011 projects. This announcement is available on the FTA Web site at: http://www.fta.dot.gov. FTA will announce final selections on the Web site and in the Federal Register. Additionally, a synopsis of the funding opportunity will be posted in the FIND module of the government-wide electronic grants Web site at http://www.grants.gov.

DATES: Complete proposals for the Tribal Transit program announced in this Notice must be submitted by September 26, 2011. All proposals must be submitted electronically through the grants.gov apply function. Any Tribe intending to apply should initiate the process of registering on the grants.gov site immediately to ensure completion of registration before the submission deadline. Instructions for applying can be found on FTA's Web site at http://www.fta.dot.gov/tribaltransit and in the “Find” module of grants.gov.

FOR FURTHER INFORMATION CONTACT: Contact the appropriate FTA Regional Administrator (Appendix A) for proposal-specific information. For general program information, contact Lorna Wilson, Tribal Transit Program, (202) 366-0893, e-mail: lorna.wilson@dot.gov. A TDD is available at 1-800-877-8339 (TDD/FIRS).

SUPPLEMENTARY INFORMATION:

Table of Contents

I. Overview

II. Program Purpose

III. Program Information

A. Eligible Applicants

B. Eligible Projects

C. Cost Sharing and Matching

D. Proposal Content

E. Evaluation Criteria

IV. Technical Assistance and Other Program Information

Appendix A FTA Regional Offices

Appendix B Tribal Transit Program Technical Assistance Contacts

Appendix C Discretionary Schedule

I. Overview

Section 3013 of SAFETEA-LU, [Pub. L. 109-59 (August 10, 2005)] amended 49 U.S.C. 5311(c) by establishing the Public Transportation on Indian Reservations Program (Tribal Transit Program) (TTP). This program authorizes direct grants “under such terms and conditions as may be established by the Secretary” to Indian tribes for any purpose eligible under FTA's Nonurbanized Area Formula Program, 49 U.S.C. 5311 (Section 5311 program). A total of $15,075,000 is currently available for discretionary allocation.

II. Program Purpose

TTP funds are to be allocated for grants to federally recognized Indian tribes for any purpose eligible under the Section 5311 program. The Conference Report that accompanied SAFETEA-LU indicated that the funds set aside for Indian tribes in the TTP are not meant to replace or reduce funds that Indian tribes receive from States through FTA's Section 5311 program. TTP funds are meant to complement any 5311 funds that applicants may be receiving. These funds will be competitively allocated to support planning, capital, and operating assistance for tribal public transit services. Geographic diversity will be considered during the allocation of TTP funds.

III. Program Information

A. Eligible Applicants

Eligible applicants include Federally-recognized Indian tribes or Alaska Native villages, groups, or communities as identified by the Bureau of Indian Affairs (BIA) in the U.S. Department of the Interior (DOI). To be an eligible recipient, a tribe must have the requisite legal, financial and technical capabilities to receive and administer Federal funds under this program. To verify federal recognition a tribe may submit a copy of the most up-to-date Federal Register notice published by DOI, BIA: Entities Recognized and Eligible to Receive Service from the United States Bureau of Indian Affairs. Applicants must be registered in the Central Contractor Registration (CCR) database and maintain an active CCR registration with current information at all times during which it has an active Federal award or an application or plan under consideration by FTA.

B. Eligible Projects

Grants can be awarded to recipients located in rural and small urban areas with populations under 50,000 not identified as an urbanized area by the Bureau of the Census and may be used for public transportation capital projects, operating costs of equipment and facilities for use in public transportation, planning, and the acquisition of public transportation services, including service agreements with private providers of public transportation services. Under DOT Americans with Disabilities Act of 1990 (ADA) regulations, public fixed-route operators are required to provide ADA complementary paratransit service to individuals who are unable to use fixed route due to their disability or a fixed route being inaccessible. Coordinated human service transportation that primarily serves elderly persons and persons with disabilities, but that is not restricted from carrying other members of the public, is considered available to the general public if it is marketed as public transportation. Examples of eligible TTP projects are start-up service, enhancement or expansions of existing services, purchase of transit capital items including vehicles, and planning or operational planning grants.

C. Cost Sharing and Matching

Projects selected for funding under the TTP can be funded up to 100 percent federal share of project costs.

D. Proposal Content

1. Proposal Submission Process

Project proposals must follow the submission guidelines that are provided at http://www.fta.dot.gov/tribaltransit. A synopsis of this announcement is also posted in the “FIND” module of the grants.gov. E-mail, mail and fax submissions will not be accepted.

Complete proposals for the Tribal Transit program must be submitted electronically through the grants.gov Web site by September 26, 2011. Applicants are encouraged to begin the process of registration on the grants.gov site well in advance of the submission deadline. Registration is a multi-step process, which may take several weeks to complete before an application can be submitted successfully. In addition to the Mandatory SF424 Form that will be downloaded from grants.gov, FTA requires applicants to complete the Supplemental FTA Form to enter descriptive and data elements of individual program proposals for these discretionary programs. These supplemental forms provide guidance and a consistent format for applicants to respond to the criteria outlined in this Notice of Funding Availability (NOFA) and described in detail on the FTA Web site at http://www.fta.dot.gov/tribaltransit. Applicants must use this Supplemental Form and attach it to their submission in grants.gov to successfully complete the application process. Within 24-48 hours after submitting an electronic application, the applicant should receive an e-mail validation message from grants.gov. The validation will state whether grants.gov found any issues with the submitted application. As an additional notification, FTA's system will notify the applicant if there are any problems with the submitted Supplemental FTA Form. If making a resubmission for any reason, include all original attachments regardless of which attachments were updated. Complete instructions on the application process can be found at http://www.fta.dot.gov/tribaltransit.

Important: FTA urges applicants to submit their applications at least 72 hours prior to the due date to allow time to receive the validation message and to correct any problems that may have caused a rejection notification.

The following information must accompany all requests for TTP funding.

2. Proposal Information

i. Name of Federally recognized tribe and, if appropriate, the specific tribal agency submitting the application.

ii. Dun and Bradstreet (D&B) Data Universal Numbering System (DUNS) number if available. (Note: If selected, applicant will be required to provide DUNS number prior to grant award.)

iii. Contact information including: Contact name, title, address, congressional district, fax and phone number, and e-mail address if available.

iv. Description of public transportation services including areas currently served by the tribe, if any.

v. Name of person (s) authorized to apply on behalf of the tribe (signed transmittal letter) must accompany the proposal.

vi. Technical, legal, and financial capacity to implement the proposed project.

3. Project Information

i. Budget: Provide the Federal amount requested for each purpose for which funds are sought and any funding from other sources that will be provided. A Tribe may allow up to fifteen percent of the grant award for planning and the indirect costs rate may not exceed ten percent.

ii. Project Description: Indicate the category for which funding is requested; i.e., start-ups, enhancements or replacements of existing transit services or planning studies or operational planning grants. Provide a summary description of the proposed project and how it will be implemented (e.g., number and type of vehicles, service area, schedules, type of services, fixed route or demand responsive), route miles (if fixed route), major origins and destinations, population served, and whether the tribe provides the service directly or contracts for services and how vehicles will be maintained.

iii. Project Timeline: Include significant milestones such as date of contract for purchase of vehicle(s), actual or expected delivery date of vehicles, and service start-up dates.

E. Evaluation Criteria

FTA will divide proposals into three categories for evaluation. The three evaluation categories are as follows:

1. Start-ups—Proposals for funding of new transit service include capital, operating, administration, and planning.

2. Existing transit services—Proposals for funding of enhancements or expansion of existing transit services include capital, operating, administration, and planning.

3. Planning—Proposals for planning include funding of transit planning studies and/or operational planning.

Applications will be grouped into their respective category for review and scoring purposes.

Tribes that cannot demonstrate adequate capacity in technical, legal and financial areas will not be considered for funding. Every proposal must describe the tribe's technical, legal, and financial capacity to implement the proposed project.

i. Technical Capacity: Provide examples of the tribe's management of other Federal projects. What resources does the tribe have to implement a transit project?

ii. Legal Capacity: Provide documentation or other evidence to show that the applicant is a federally recognized tribe and an authorized representative to execute legal agreements with FTA on behalf of the tribe. If applying for capital or operating funds, does the tribe have appropriate Federal or State operating authority?

iii. Financial Capacity: Does the tribe have adequate financial systems in place to receive and manage a Federal grant? Describe the tribe's financial systems and controls.

a. Evaluation Criteria for Start-Ups and Existing Transit Service

1. Project Planning and Coordination

In this section, the applicant should describe how the proposed project was developed and demonstrate that there is a sound basis for the project and that it is ready to implement if funded. Proposals will be rated whether there is a sound basis for the proposal and if it is ready to implement. Information may vary depending upon how the planning process for the project was conducted. Project planning and coordination should consider and address the following areas:

i. Describe the planning document and/or the planning process conducted to identify the proposed project.

ii. Provide a detailed project description including the proposed service, vehicle and facility needs, and other pertinent characteristics of the proposed service implementation.

iii. Identify existing transportation services available to the tribe and discuss whether the proposed project will provide opportunities to coordinate service with existing transit services, including human service agencies, intercity bus services, or other public transit providers.

iv. Discuss the level of support either by the community and/or tribal government for the proposed project.

v. Describe how the mobility and client-access needs of tribal human service agencies were considered in the planning process.

vi. Describe what opportunities for public participation were provided in the planning process and how the proposed transit service or existing service has been coordinated with transportation provided for the clients of human service agencies, with intercity bus transportation in the area, or with any other rural public transit providers.

vii. Describe how the proposed service complements rather than duplicates any currently available services.

viii. Describe the implementation schedule for the proposed project, including time frame, staffing, procurement, etc.

ix. Describe any other planning or coordination efforts that were not mentioned above.

2. Demonstration of Need

In this section, the proposal should demonstrate the transit needs of the tribe and discuss how the proposed transit improvements will address the identified transit needs. Proposals may include information such as destinations and services not currently accessible by transit, need for access to jobs or health care, special needs of the elderly and individuals with disabilities, income-based community needs, or other mobility needs.

Based on the information provided, the proposals will be rated on whether there is a demonstrated need for the project and how well does the project fulfill the need.

3. Demonstration of Benefits

In this section, proposals should identify expected project benefits. Possible examples include increased ridership and daily trips, improved service, improved operations and coordination, and economic benefits to the community.

Benefits can be demonstrated by identifying the population of tribal members and non-tribal members in the proposed project service area and estimating the number of daily one-way trips the transit service will provide and or the number of individual riders. There may be many other, less quantifiable, benefits to the tribe and surrounding community from this project. Please document, explain or show the benefits in whatever format is reasonable to present them.

Based on the information provided proposals will be rated based on four factors:

i. Will the project improve transit efficiency or increase ridership?

ii. Will the project improve mobility for the tribe?

iii. Will the project improve access to important destinations and services?

iv. Are there other qualitative benefits?

4. Financial Commitment and Operating Capacity

In this section, the proposal should identify any other funding sources used by the tribe to support existing or proposed transit services, including human service transportation funding, Indian Reservation Roads, or other FTA programs such as Job Access and Reverse Commute, New Freedom, Section 5311, Section 5310, or Section 5309 Bus and Bus Facilities.

For existing services, the proposal should show how TTP funding will supplement (not duplicate or replace) current funding sources. If the transit system was previously funded under section 5311 through the State's apportionment, describe how requested TTP funding will expand available services.

Describe any other resources the tribe will contribute to the project, including in-kind contributions, commitments of support from local businesses, donations of land or equipment, and human resources, and describe to what extent the new project or funding for existing service leverages other funding.

The tribe should show its ability to manage programs by demonstrating the existing programs it administers in any area of expertise such as human services. Based upon the information provided, the proposals will be rated on the extent to which the proposal demonstrates that:

i. This project provides new services or complements existing service;

ii. TTP funding does not replace existing funding;

iii. The tribe has or will provide non-financial support to project;

iv. The tribe has demonstrated ability to provide other services or manage other programs; and

v. Project funds are used in coordination with other services for efficient utilization of funds.

b. Evaluation Criteria for Planning Proposals

For planning grants, the application should describe, in no more than three pages, the need for and a general scope of the proposed study.

The application should address the following:

1. Is the tribe committed to planning for transit?

2. Is the scope of the proposed study for tribal transit?

c. Note on Continuation Projects

If an applicant is requesting FY 2011 funding to continue a project funded previously with prior year resources, tribes must demonstrate that their project(s) are in an active status to receive additional funding. Along with the criteria listed in Section 111.5.a, proposals should state that the applicant is a current TTP grantee and provide information on their transit project(s) status including services now being provided and how the new funding will complement the existing service. Please provide any data that would be helpful to project evaluators, i.e., ridership, increased service hours, extended service routes, stops, etc. If you received a planning grant in previous fiscal years, please indicate the status of your planning study and how this project relates to that study.

IV. Technical Assistance and Other Program Information

This program is not subject to Executive Order 12372, “Intergovernmental Review of Federal Programs.” FTA will consider applications for funding only from eligible recipients for eligible projects listed in Section 3. Due to funding limitations, applicants that are selected for funding may receive less than the amount requested.

Complete applications must be submitted through grants.gov by September 26, 2011. Applicants may receive technical assistance for application development by contacting their FTA regional Tribal liaison, or the National Rural Transportation Assistance Program office. Contact information for technical assistance can be found in Appendix B.

Peter Rogoff,
Administrator.

APPENDIX A

FTA Regional and Metropolitan Offices
Richard H. Doyle, Regional Administrator Region 1-Boston, Kendall Square, 55 Broadway, Suite 920, Cambridge, MA 02142-1093, Tel. 617-494-2055 States served: Connecticut, Maine, Massachusetts, New Hampshire, Rhode Island, and Vermont Brigid Hynes-Cherin, Regional Administrator, Region 2-New York, One Bowling Green, Room 429, New York, NY 10004-1415, Tel. 212-668-2170 States served: New Jersey, New York. New York Metropolitan Office Region 2-New York, One Bowling Green, Room 428, New York, NY 10004-1415, Tel. 212-668-2202 Letitia Thompson, Regional Administrator, Region 3-Philadelphia, 1760 Market Street, Suite 500, Philadelphia, PA 19103-4124, Tel. 215-656-7100 States served: Delaware, Maryland, Pennsylvania, Virginia, West Virginia, and the District of Columbia Philadelphia Metropolitan Office, Region 3-Philadelphia, 1760 Market Street, Suite 500, Philadelphia, PA 19103-4124, Tel. 215-656-7070 Washington, D.C. Metropolitan Office, 1990 K Street, NW, Room 510, Washington, DC 20006, Tel. 202-219-3562 Yvette Taylor, Regional Administrator, Region 4-Atlanta, 230 Peachtreet Street, NW Suite 800, Atlanta, GA 30303, Tel. 404-865-5600 States served: Alabama, Florida, Georgia, Kentucky, Mississippi, North Carolina, Puerto Rico, South Carolina,Tennessee, and Virgin Islands Marisol Simon, Regional Administrator, Region 5-Chicago, 200 West Adams Street, Suite 320, Chicago, IL 60606, Tel. 312-353-2789 States served: Illinois, Indiana, Michigan, Minnesota, Ohio, and Wisconsin Chicago Metropolitan Office, Region 5-Chicago, 200 West Adams Street, Suite 320, Chicago, IL 60606, Tel. 312-353-2789. | Robert C. Patrick, Regional Administrator, Region 6-Ft. Worth, 819 Taylor Street, Room 8A36, Ft. Worth, TX 76102, Tel. 817-978-0550. States served: Arkansas, Louisiana, Oklahoma, New Mexico and Texas. Mokhtee Ahmad, Regional Administrator, Region 7-Kansas City, MO, 901 Locust Street, Room 404, Kansas City, MO 64106, Tel. 816-329-3920. States served: Iowa, Kansas, Missouri, and Nebraska. Terry Rosapep, Regional Administrator, Region 8-Denver, 12300 West Dakota Ave., Suite 310, Lakewood, CO 80228-2583, Tel. 720-963-3300. States served: Colorado, Montana, North Dakota, South Dakota, Utah, and Wyoming. Leslie T. Rogers, Regional Administrator, Region 9-San Francisco, 201 Mission Street, Room 1650, San Francisco, CA 94105-1926, Tel. 415-744-3133. States served: American Samoa, Arizona, California, Guam, Hawaii, Nevada, and the Northern Mariana Islands. Los Angeles Metropolitan Office, Region 9-Los Angeles, 888 S. Figueroa Street, Suite 1850, Los Angeles, CA 90017-1850, Tel. 213-202-3952. Rick Krochalis, Regional Administrator, Region 10-Seattle, Jackson Federal Building, 915 Second Avenue, Suite 3142, Seattle, WA 98174-1002, Tel. 206-220-7954. States served: Alaska, Idaho, Oregon, and Washington

APPENDIX B

Technical Assistance Contacts

Alaska Tribal Technical Assistance Program: Kim Williams, University of Alaska, Fairbanks, P.O. Box 756720, Fairbanks, AK 99775-6720, (907) 842-2521, (907) 474-5208, williams@nushtel.net, http://community.uaf.edu/~alaskattac,

Service area: Alaska.

National Indian Justice Center: Raquelle Myers, 5250 Aero Drive, Santa Rosa, CA 95403, (707) 579-5507 or (800) 966-0662, (707) 579-9019, nijc@aol.com, http://www.nijc.org/ttap.html,

Service area: California, Nevada.

Tribal Technical Assistance Program at Colorado State University: Ronald Hall, Rockwell Hall, Room 321, Colorado State University, Fort Collins, CO 80523-1276, (800) 262-7623, (970) 491-3502, ronald.hall@colostate.edu, http://ttap.colostate.edu/,

Service area: Arizona, Colorado, New Mexico, Utah.

Tribal Technical Assistance Program (TTAP): Bernie D. Alkire, 301-E Dillman Hall, Michigan Technological University, 1400 Townsend Drive, Houghton, MI 49931-1295, (888) 230-0688, (906) 487-1834, balkire@mtu.edu, http://www.ttap.mtu.edu/,

Service area: Alabama, Arkansas, Connecticut, Delaware, Florida, Georgia, Illinois, Indiana, Iowa, Kentucky, Louisiana, Maine, Maryland, Massachusetts, Michigan, Minnesota, Mississippi, Missouri, New Hampshire, New Jersey, New York, North Carolina, Ohio, Pennsylvania.

Northern Plains Tribal Technical Assistance Program: Dennis Trusty, United Tribes Technical College, 3315 University Drive, Bismarck, ND 58504, (701) 255-3285 ext. 1262, (701) 530-0635, nddennis@hotmail.com, http://www.uttc.edu/forum/ttap/ttap.asp,

Service area: Montana (Eastern), Nebraska (Northern), North Dakota, South Dakota, Wyoming.

Northwest Tribal Technical Assistance Program: Richard A. Rolland, Eastern Washington University, Department of Urban Planning, Public & Health Administration, 216 Isle Hall, Cheney, WA 99004, (800) 583-3187, (509) 359-7485, rrolland@ewu.edu, http://www.ewu.edu/TTAP/, Service area: Idaho, Montana (Western), Oregon, Washington.

Tribal Technical Assistance Program at Oklahoma State University: James Self, Oklahoma State University, 5202 N. Richmond Hills Road, Stillwater, OK 74078-0001, (405) 744-6049, (405) 744-7268, jim.self@okstate.edu, http://ttap.okstate.edu/,

Service area: Kansas, Nebraska (Southern), Oklahoma, Texas.

Other Technical Assistance Resources

National RTAP (National Rural Transit Assistance Program): Contact: Patti Monahan, National RTAP, 5 Wheeling Ave, Woburn, MA 01801, (781) 404-5015 (Direct), (781) 895-1122 (Fax), (888) 589-6821 (Toll Free), pmonahan@nationalrtap.org, http://www.nationalrtap.org.

Community Transportation Association of America: The Resource Center: 800-891-0590, http://www.ctaa.org/.

[FR Doc. 2011-18563 Filed 7-22-11; 8:45 am]

BILLING CODE 4910-57-P